DEPARTMENT OF DEFENSE

Office of the Secretary

Defense Science Board

AGENCY: Department of Defense.

ACTION: Notice of Advisory Committee meetings.

SUMMARY: The Defense Science Board Task Force on Nuclear Capabilities will meet in closed session on May 26-27, 2005 (at IDA; general theme is the world environment); June 17, 2005 (at IDA; general theme is the complex, manufacturing, and systems engineering); July 21-22, 2005 (location TBD); August 1-12, 2005 (summer study session in Irvine, CA); August 30-31, 2005 (in addition to time in Irvine, location TBD) and September 13-14, 2005 (location TBD). The Institute for Defense Analysis (IDA) is located at 4850 Mark Center Drive, Alexandria, VA. The Task Force will review DoD needs and specific requirements for nuclear capabilities.

In accordance with Section 10(d) of the Federal Advisory Committee Act, Public Law 92-463, as amended (5 U.S.C. App. II), it has been determined that these Defense Science Board Task Force meetings concern matters listed in 5 U.S.C. 552b(c)(1) and that, accordingly, the meetings will be closed to the public.

DATES: May 26-27, 2005 (at IDA; general theme is the world environment); June 17, 2005 (at IDA; general theme is the complex, manufacturing, and systems engineering); July 21-22, 2005 (location TBD); August 1-12, 2005 (summer study session in Irvine, CA); August 30-31, 2005 (in addition to time in Irvine, location TBD); and September 13-14, 2005 (location TBD).

ADDRESSES: The Institute for Defense Analysis (IDA) is located at 4850 Mark Center Drive, Alexandria, VA.

FOR FURTHER INFORMATION CONTACT: LtCol David Robertson, USAF, Defense Science Board, 3140 Defense Pentagon, Room 3D865, Washington, DC 20301-3140, via e-mail at david.robertson@osd.mil, or via phone at (703) 695-4158.

SUPPLEMENTARY INFORMATION: The mission of the Defense Science Board is to advise the Secretary of Defense and the Under Secretary of Defense for Acquisition, Technology & Logistics on scientific and technical matters as they affect the perceived needs of the Department of Defense. At these meetings, the Defense Science Board Task Force will: Assess the current plan for sustaining the nuclear weapons stockpile and make recommendations for ensuring the future reliability, safety, security, and relevance of the nuclear weapons stockpile for the 21st century; examine the DoD role in defining needs in the nuclear weapons stockpile and recommend changes in institutional arrangements to ensure an appropriate DoD role; assess progress towards the goal of an integrated new triad of strike capabilities (nuclear, advanced conventional, and non-kinetic) within the new triad of strike, defense and infrastructure; examine a wide range of alternative institutional arrangements that could provide for more efficient management of the nuclear enterprise; examine approaches to evolving the stockpile with weapons that are simpler to manufacture and that can be sustained with a smaller, less complex, less expensive design, development, certification and production enterprise; and examine plans to transform the nuclear weapons production complex to provide a capability to respond promptly to changes in the threat environment with new designs or designs evolved with previously tested nuclear components.

Due to scheduling difficulties, there is insufficient time to provide timely notice required by Section 10(a) of the Federal Advisory Committee Act and Subsection 102-3.150(b) of the GSA Final Rule on Federal Advisory Committee Management, 41 CFR part 102-3.150(b), which further requires publication at least 15 calendar days prior to the meeting.

Jeanette Owings-Ballard,
OSD Federal Register Liaison Officer, Department of Defense.

[FR Doc. 05-10155 Filed 5-19-05; 8:45 am]

BILLING CODE 5001-06-P